DEPARTMENT OF LABOR

Veterans' Employment and Training Service

Agency Information Collection Activities; Comment Request: Required Components of the Jobs for Veterans State Grants State Plans

ACTION: Notice of availability; request for comments.

SUMMARY: In compliance with the Paperwork Reduction Act of 1995 (PRA), DOL is soliciting public comments regarding the proposed revision of this Office of the Assistant Secretary for Veterans' Employment and Training Service (VETS) sponsored information collection for the authority to collect information requirements under a new information collection request (ICR) titled “Required Components of the Jobs for Veterans State Grants State Plans”.

DATES: Consideration will be given to all written comments received by February 7, 2023.

ADDRESSES: A copy of this ICR with applicable supporting documentation, including a description of the likely respondents, proposed frequency of response, and estimated total burden, may be obtained for free by contacting Rebekah Haydin by telephone at (240) 867-2302 (this is not a toll-free number) or by email at JVSG@dol.gov.

Submit written comments about this ICR by email to: JVSG@dol.gov. Include “JVSG State Plan ICR Comments” in the subject line.

Comments are invited on: (1) whether the collection of information is necessary for the proper performance of the functions of the Department, including whether the information will have practical utility; (2) Evaluate whether the proposed collection of information is necessary for the proper performance of the functions of the agency; (3) the accuracy of the agency's estimates of the burden and cost of the collection of information, including the validity of the methodology and assumptions used; (4) ways to enhance the quality, utility and clarity of the information collection; and (5) ways to minimize the burden of the collection of information on those who are to respond, including the use of automated collection techniques or other forms of information technology. Comments submitted in response to this notice will be summarized and included in the request for the Office of Management and Budget approval of the information collection request. Comments will become a matter of public record.

FOR FURTHER INFORMATION CONTACT: Rebekah Haydin, by telephone at (240) 867-2302 (this is not a toll-free number) or by email at JVSG@dol.gov.

SUPPLEMENTARY INFORMATION: The Department of Labor, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Department of Labor's Veterans' Employment and Training Service (VETS) administers funds for the Jobs for Veterans State Grant (JVSG) to each state, the District of Columbia, Puerto Rico, Guam, and the U.S. Virgin Islands on an annual fiscal year basis. These non-competitive, formula-driven grants are codified under Title 38, United States Code, (38 U.S.C.) section 4102A(b)(5):

“Subject to subsection (c) make available for use in each state by grant or contract such funds as may be necessary to support—(A) disabled veterans' outreach program specialists appointed under section 4103A(a)(1) of this title, (B) local veterans' employment representatives assigned under section 4104(b) of this title, and (C) the reasonable expenses of such specialists and representatives described in subparagraphs (A) and (B), respectively, for training, travel, supplies, and other business expenses . . .”

Conditions for the receipt of funds are outlined in Section 4102A(c)(2)(A):

“A State shall submit to the Secretary an application for a grant or contract under subsection (b)(5). The application shall contain the following information:

(i) A plan that describes the manner in which the State shall furnish employment, training, and placement services required under this chapter for the program year, including a description of—(I) duties assigned by the State to disabled veterans' outreach program specialists and local veterans' employment representatives consistent with the requirements of sections 4103A and 4104 of this title; (II) the manner in which such specialists and representatives are integrated in the employment service delivery systems in the State; and (III) the program of performance incentive awards described in section 4112 of this title in the State for the program year.

(ii) The veteran population to be served.”

In addition, section 4102A(f) requires performance accountability for services provided under the JVSG, and VETS has determined that states' performance goals for participant outcomes are an appropriate component of the state plan.

This ICR collects the required information for the submission of JVSG State Plans and Modifications. The information covered includes the state's plan for furnishing employment, training, and placement services under 38 U.S.C. chapter 41, including their performance goals for Disabled Veterans Outreach Program staff services to eligible veterans and other eligible persons.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three years. OMB authorization for an Information Collection Review cannot be for more than three years without renewal.

Agency: DOL-VETS.

Type of Review: Existing collection in use without an OMB Control Number.

Title of Collection: Required Components of the Jobs for Veterans State Grants State Plans.

Forms: N/A.

OMB Control Number: 1293-0NEW.

Affected Public: State, Local, and Tribal Governments.

Estimated Number of Respondents: 36.

Frequency: Once.

Total Estimated Annual Responses: 36.

Estimated Average Time per Response: 25 hours.

Total Estimated Annual Burden Hours: 936.

Total Estimated Annual Other Burden Costs (Operating and Maintenance): $0.

(Authority: 44 U.S.C. 3506(c)(2)(A)).

James D. Rodriguez,
Assistant Secretary, Veterans' Employment and Training Service, U.S. Department of Labor.

[FR Doc. 2022-26757 Filed 12-8-22; 8:45 am]

BILLING CODE 4510-79-P